DEPARTMENT OF HOUSING AND URBAN DEVELOPMENT

[Docket No. FR-5685-N-02]

Notice of Proposed Information Collection: Comment Request Affirmative Fair Housing Marketing (AFHM) Plan

AGENCY: Office of the Assistant Secretary for Fair Housing and Equal Opportunity, HUD.

ACTION: Notice of information collection.

SUMMARY: The proposed information collection requirement described below will be submitted to the Office of Management and Budget (OMB) for review, as required by the Paperwork Reduction Act of 1995. HUD is soliciting public comments on the subject proposal. Developers of new projects describe their intent (marketing efforts) to assure that they meet the Fair Housing guidelines in how the project is marketed to the public.

DATES: Comments Due Date: June 3, 2013.

ADDRESSES: Interested persons are invited to submit comments regarding this proposed information collection requirement. Comments should refer to the proposal by name and/or OMB Control Number, and should be sent to: Reports Liaison Officer, Department of Housing and Urban Development, 451 7th Street SW., Washington, DC 20410-2000; or for the hearing and speech impaired the number for the Federal Relay Service Relay Service 1-800-877-8339.

FOR FURTHER INFORMATION CONTACT: Tracy E. Richardson, Director, Program Standards and Compliance Division, Office of Fair Housing and Equal Opportunity, Department of Housing and Urban Development, 451 Seventh Street SW., Room 5240, Washington, DC 20410-2000; email to Tracy.E.Richardson@hud.gov; telephone number (202) 708-1145 (this is not a toll-free number) for copies of the forms and other available information. Hearing or speech-impaired individuals may access these numbers via TTY (text telephone) by calling the Federal Information Relay Service at 800-877-8339 (this is a toll-free number).

SUPPLEMENTARY INFORMATION: The Department is submitting this proposed information collection requirement to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Affirmative Fair Housing Marketing (AFHM) Plan.

Title of Regulation: Affirmative Fair Housing Marketing Regulations (24 CFR 200.600 and Affirmative Fair Housing Marketing Compliance Regulations (24 CFR part 108).

OMB Control Number, if applicable: 2529-0013.

Description of the need for the information and proposed use: Developers of new projects describe their intent (marketing efforts) to assure that they meet the Fair Housing guidelines in how the project is marketed to the public. HUD uses this information to assess the adequacy of the applicant's proposed actions to carry out the Affirmative Fair Housing Marketing requirements of 24 CFR 200.600 and review compliance with these requirements under 24 CFR part 108, the AFHM Compliance Regulations.

Agency form numbers, if applicable: HUD-935.2A Affirmative Fair Housing Marketing (AFHM) Plan (Multifamily), HUD-935.2B Affirmative Fair Housing Marketing (AFHM) Plan (Single-Family), and HUD-935.2C Affirmative Fair Housing Marketing (AFHM) Plan (Condominiums or Cooperatives).

Members of affected public: Applicants for mortgage insurance under the Department's insured single-family and multifamily subsidized and unsubsidized programs.

Estimation of the total number of hours needed to prepare the information collection including the number of respondents, frequency of response, and hours of response: The number of burden hours is 25,540, which includes time for initial submission, review of existing plans, and any necessary revision. On an annual basis, there are approximately 4,360 respondents who submit initial plans or updated plans. On an annual basis, an additional 3,720 respondents simply review their existing plans. The frequency of annual response is once, and the average burden hour per response is 6 hours for the initial plan submitted, and 4 hours for review and the updating of an existing plan.

Status of the proposed Information Collection: Extension of a currently approved collection.

Authority: The Paperwork Reduction Act of 1995, 44 U.S.C. Chapter 35, as amended.

Dated: March 27, 2013.
Tracy E. Richardson,
Director, Program Standards and Compliance Division, Fair Housing and Equal Opportunity.

[FR Doc. 2013-07646 Filed 4-1-13; 8:45 am]

BILLING CODE 4210-67-P